DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Transylvania County, North Carolina and Incorporated Areas Docket Nos.: FEMA-D-7826, FEMA-B-7792, FEMA-B-1003
Allison Creek | Approximately 450 feet upstream of the confluence with Lamb Creek | + 2,116 | Unincorporated Areas of Transylvania County, City of Brevard.
| Approximately 1,100 feet upstream of Camp Straus Road. | + 2,187
Boylston Creek | Approximately 1,500 feet downstream of the Henderson/Transylvania County boundary | + 2,173 | Unincorporated Areas of Transylvania County.
| Approximately 50 feet upstream of King Road (State Road 1502) | +2,228
Carson Creek | At the confluence with French Broad River | + 2,137 | Unincorporated Areas of Transylvania County.
| Approximately 0.6 mile upstream of Island Ford Road (State Road 1103) | + 2,471
Catheys Creek | Approximately 10 feet upstream of U.S. Highway 64 | + 2,187 | Unincorporated Areas of Transylvania County, City of Brevard.
| Approximately 1.1 miles upstream of U.S. Highway 64 | + 2,253
Davidson River | Approximately 100 feet upstream of Old Henderson Highway | + 2,104 | Unincorporated Areas of Transylvania County, City of Brevard.
| Approximately 50 feet upstream of U.S. 64 Highway | + 2,128
Davidson River (original channel) | The confluence with Davidson River | + 2,117 | Unincorporated Areas of Transylvania County, City of Brevard.
| Approximately 1,000 feet upstream from the confluence of Turkey Creek | + 2,127
Davidson River Tributary 1 | At the confluence with Davidson River | + 2,109 | Unincorporated Areas of Transylvania County, City of Brevard.
| Approximately 1,440 feet upstream of Ecusta Road | + 2,144
Flat Creek | Approximately 100 feet upstream of the confluence with West French Broad River | + 2,298 | Unincorporated Areas of Transylvania County.
| The confluence of North and South Flat Creek | + 2,533
Frozen Creek | At the confluence with West Fork French Broad River | + 2,233 | Unincorporated Areas of Transylvania County.
| Approximately 500 feet upstream of Frozen Creek Road (State Road 1143) | + 2,361
Graham Creek | Approximately 600 feet upstream of Keystone Camp Road | + 2,167 | Unincorporated Areas of Transylvania County, City of Brevard.
| Approximately 100 feet downstream of East Southwood Drive | + 2,172
Horsepasture River | Approximately 200 feet downstream of the Jackson/Transylvania County boundary | + 2,968 | Unincorporated Areas of Transylvania County.
| At the Jackson/Transylvania County boundary | + 2,989
Hunts Branch | At the confluence with Norton Creek | + 2,180 | Unincorporated Areas of Transylvania County, City of Brevard.
| Approximately 640 feet upstream of Probart Street (State Road 1348) | + 2,218
Indian Creek | The confluence with Toxaway River | + 2,186 | Unincorporated Areas of Transylvania County.
| Approximately 0.6 mile upstream of NC Highway 281 | + 3,041
Jumping Branch | Approximately 10 feet upstream of Turnpike Road | + 2,141 | City of Brevard.
| Approximately 30 feet downstream of Miner Street | + 2,163
King Creek | Approximately 0.6 mile upstream of the confluence with French Broad River | + 2,105 | Unincorporated Areas of Transylvania County, City of Brevard.
| Approximately 0.4 mile upstream of Millbrook Drive | + 2,290
Lime Kiln Creek | Approximately 0.6 mile upstream of the confluence with French Broad River | + 2,150 | Unincorporated Areas of Transylvania County.
| Approximately 750 feet upstream of Ross Road (State Road 1334) | + 2,213
Little River | Approximately 1.3 miles upstream of Cascade Lake Road (State Road 1536) | + 2,142 | Unincorporated Areas of Transylvania County.
| Approximately 300 feet upstream of Casey Lane | + 2,745
Long Branch | The confluence with King Creek | + 2,144 | Unincorporated Areas of Transylvania County, City of Brevard.
| Approximately 280 feet upstream of the confluence with King Creek | + 2,144
Lyday Creek | Approximately 0.7 mile upstream of the confluence with French Broad River | + 2,097 | Unincorporated Areas of Transylvania County.
| Approximately 0.7 mile upstream of the confluence of Blythe Branch | + 2,152
Mason Creek | Approximately 50 feet upstream of Whitmire Road (State Road 1128) | + 2,159 | Unincorporated Areas of Transylvania County.
| Approximately 0.4 mile upstream of Cherryfield Loop (State Road 1392) | + 2,227
Morton Creek | At the confluence with South Fork Flat Creek | + 2,674 | Unincorporated Areas of Transylvania County.
| Approximately 1,820 feet upstream of U.S. 64 Highway | + 2,700
North Fork Flat Creek | At the confluence with Flat Creek and South Fork Flat Creek | + 2,533 | Unincorporated Areas of Transylvania County.
| Approximately 1,300 feet upstream of Golden Road (State Road 1313) | + 2,998
Norton Creek | At the confluence with Nicholson Creek | + 2,128 | Unincorporated Areas of Transylvania County, City of Brevard.
| Approximately 475 feet upstream of Probart Street (State Road 1348) | + 2,218
Osborne Branch | The confluence with Boylston Creek | + 2,223 | Unincorporated Areas of Transylvania County.
| Approximately 0.7 mile upstream of the confluence with Boylston Creek | + 2,422
Pole Bridge Branch | The confluence with Little River | + 2,698 | Unincorporated Areas of Transylvania County.
| Approximately 900 feet upstream of the confluence with Little River | + 2,739
South Fork Flat Creek | At the confluence with Flat Creek and North Fork Flat Creek | + 2,533 | Unincorporated Areas of Transylvania County.
| Approximately 0.5 mile upstream of Flat Creek Valley Road (State Road 1147) | + 2,792
South Prong Turkey Creek | At the confluence with Turkey Creek | + 2,252 | Unincorporated Areas of Transylvania County.
| Approximately 360 feet upstream of the confluence with Turkey Creek | + 2,269
Sutton Creek | The confluence with Boylston Creek | + 2,228 | Unincorporated Areas of Transylvania County.
| Approximately 0.8 mile upstream of Lakeland Drive | + 2,497
Toxaway River | Approximately 5.9 miles upstream of North Carolina/South Carolina boundary | + 2,164 | Unincorporated Areas of Transylvania County.
| Approximately 1.0 mile upstream of Cardinal Drive West | + 3,390
Toxaway River Tributary 5 | The confluence with Toxaway River | + 2,654 | Unincorporated Areas of Transylvania County.
| Approximately 0.4 mile upstream of the confluence with Toxaway River | + 3,021
Toxaway River Tributary 6 | The confluence with Toxaway River | + 2,643 | Unincorporated Areas of Transylvania County.
| Approximately 0.5 mile upstream of the confluence with Toxaway River | + 2,804
Turkey Creek | At the confluence with Davidson River (original channel) | + 2,124 | Unincorporated Areas of Transylvania County, City of Brevard.
| Approximately 120 feet upstream of the confluence with South Prong Turkey Creek | + 2,256
West Fork French Broad River | Approximately 1,600 feet upstream of U.S. Highway 64 | + 2,247 | Unincorporated Areas of Transylvania County.
| Approximately 200 feet upstream of the confluence of Flat Creek | + 2,307
Whitewater River | At the North Carolina/South Carolina boundary | + 1,961 | Unincorporated Areas of Transylvania County.
| At the Transylvania/Jackson County boundary | + 3,163
Williamson Creek | Approximately 1,000 feet upstream of Wilson Road (State Road 1540) | +2,105 | Unincorporated Areas of Transylvania County.
| Approximately 1,000 feet upstream of the confluence of Camp Creek | + 2,116
Wilson Mill Creek | Approximately 1,900 feet upstream of the confluence with Catheys Creek | + 2,148 | Unincorporated Areas of Transylvania County.
| Approximately 1,900 feet upstream of Forest Road | + 2,398
* National Geodetic Vertical Datum.
+ North American Vertical Datum.
# Depth in feet above ground.
ADDRESSES
City of Brevard
Maps are available for inspection at the City of Brevard Planning Department, 95 West Main Street, Brevard, NC.
Unincorporated Areas of Transylvania County
Maps are available for inspection at the Transylvania County Inspections Department, 98 East Morgan Street, Brevard, NC.
Walworth County, Wisconsin, and Incorporated Areas FEMA Docket No.: B-7755
Eagle Spring Lake | All flooding affecting County | + 822 | Unincorporated Areas of Walworth County.
Mukwonago River | Approximately 1,700 feet North of the intersection of Marsh Road and County Highway J | + 799 | Unincorporated Areas of Walworth County.
| Approximately 1.2 miles Northeast of the intersection of County Highway J and County Highway E | + 806
* National Geodetic Vertical Datum.
+ North American Vertical Datum.
# Depth in feet above ground.
ADDRESSES
Unincorporated Areas of Walworth County
Maps are available for inspection at the Office of Emergency Management, 1770 County Road NN, Elkhorn, WI 53121.

(Catalog of Federal Domestic Assistance No. 97.022, “Flood Insurance.”)

Dated: May 11, 2009.
Deborah S. Ingram,
Deputy Acting Assistant Administrator for Mitigation, Mitigation Directorate, Department of Homeland Security, Federal Emergency Management Agency.

[FR Doc. E9-11513 Filed 5-15-09; 8:45 am]

BILLING CODE 9110-12-P